NATIONAL AERONAUTICS AND SPACE ADMINISTRATION

[Notice (10-065)]

NASA Advisory Council; Ad-Hoc Task Force on Planetary Defense; Meeting

AGENCY: National Aeronautics and Space Administration.

ACTION: Notice of Meeting.

SUMMARY: In accordance with the Federal Advisory Committee Act, Public Law 92-463, as amended, the National Aeronautics and Space Administration announces a meeting of the Ad-Hoc Task Force on Planetary Defense of the NASA Advisory Council.

DATES: Thursday, July 8, 2010, 8:30 a.m.-5:30 p.m., and Friday, July 9, 2010, 8 a.m.-12:45 p.m. (all times are Mountain Daylight Savings Time).

ADDRESSES: Millennium Harvest House, 1345 28th Street, Boulder, Colorado 80302 (room will be posted in hotel lobby).

FOR FURTHER INFORMATION CONTACT: Ms. Jane Parham, Exploration Systems Mission Directorate, National Aeronautics and Space Administration Headquarters, Washington, DC 20546, (202) 358-1715; jane.parham@nasa.gov.

SUPPLEMENTARY INFORMATION: The agenda topics for the meeting will include:

• Work plan and timeline.

• Report on fact-finding meetings.

• Asteroid detection, warning, response, and concepts for deflection.

• International coordination on planetary defense against asteroids.

The meeting will be open to the public up to the seating capacity of the room. It is imperative that the meeting be held on this date to accommodate the scheduling priorities of the key participants. Visitors will be required to sign a register when they enter the meeting room.

For questions, please call Ms. Jane Parham, at (202) 358-1715.

Dated: June 9, 2010.
P. Diane Rausch,
Advisory Committee Management Officer, National Aeronautics and Space Administration.

[FR Doc. 2010-14408 Filed 6-14-10; 8:45 am]

BILLING CODE P